DEPARTMENT OF HOMELAND SECURITY

[Docket No. DHS-2012-0058]

Chemical Security Assessment Tool (CSAT)

AGENCY: National Protection and Programs Directorate, DHS.

ACTION: 30-day notice and request for comments; Revision of Information Collection Request: 1670-0007.

SUMMARY: The Department of Homeland Security (DHS), National Protection and Programs Directorate (NPPD), Office of Infrastructure Protection (IP), Infrastructure Security Compliance Division (ISCD), will submit the following Information Collection Request (ICR) to the Office of Management and Budget (OMB) for review and clearance in accordance with the Paperwork Reduction Act of 1995 (Pub. L. 104-13, 44 U.S.C. Chapter 35). The Department previously published this ICR in the Federal Register on December 17, 2012, for a 60-day public comment period.¹ In this notice NPPD is (1) responding to one comment submitted in response to the 60-day notice previously published for this ICR, (2) responding to an additional comment that was responsive to different notice, also published on December 17, 2012, that solicited comments on a related Information Collection Request,² and (3) soliciting comments concerning the extension of Information Collection Request, Chemical Security Assessment Tool for an additional 30 days for public comments.

¹ See 77 FR 74678. The 60-day Federal Register notice for Information Collection 1670-0007, which solicited comments for 60 days, may be found at https://federalregister.gov/a/2012-30313.

² The comment was submitted under docket # DHS-2012-0059 and provided comment not only on this Information Collection Request (i.e., 1670-0007), but also on ICR 1670-0014 and ICR 1670-0015. The comment may be viewed at http://www.regulations.gov/#!documentDetail;D=DHS-2012-0059-0002.

DATES: Comments are encouraged and will be accepted until April 17, 2013. This process is conducted in accordance with 5 CFR 1320.10.

ADDRESSES: Interested persons are invited to submit written comments on the proposed information collection to the Office of Information and Regulatory Affairs, OMB. Comments should be addressed to OMB Desk Officer, Department of Homeland Security, National Protection and Programs Directorate. Comments must be identified by the docket number DHS-2012-0058 and may be submitted by one of the following methods:

○ Federal eRulemaking Portal: http://www.regulations.gov.

○ Email: oira_submission@omb.eop.gov. Include the docket number in the subject line of the message.

○ Fax: (202) 395-5806.

Instructions: All submissions received must include the words “Department of Homeland Security” and the docket number for this action. Comments received will be posted without alteration at http://www.regulations.gov, including any personal information provided.

Comments that include trade secrets, confidential commercial or financial information, Chemical-terrorism Vulnerability Information (CVI), Sensitive Security Information (SSI), or Protected Critical Infrastructure Information (PCII) should not be submitted to the public regulatory docket. Please submit such comments separately from other comments in response to this notice. Comments containing trade secrets, confidential commercial or financial information, CVI, SSI, or PCII should be appropriately marked and submitted by mail to the Office of Information and Regulatory Affairs, OMB. Comments should be addressed to OMB Desk Officer, Department of Homeland Security, National Protection and Programs Directorate. Comments must be identified by docket number DHS-2012-0058.

OMB is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

FOR FURTHER INFORMATION CONTACT: CFATS Program Manager, DHS/NPPD/IP/ISCD, CFATS@hq.dhs.gov.

SUPPLEMENTARY INFORMATION: Section 550 of the Homeland Security Appropriations Act of 2007, Public Law 109-295 (2006), provides DHS with the authority to regulate the security of high-risk chemical facilities. On April 9, 2007, the Department issued an Interim Final Rule (IFR), implementing this statutory mandate at 72 FR 17688. Section 550 of the Homeland Security Appropriations Act of 2007 requires a risk-based approach to security.

The Chemical Facility Anti-Terrorism Standards (CFATS) are the Department's regulations under Section 550 governing security at high-risk chemical facilities. See 6 CFR part 27. CFATS represents a national-level effort to minimize terrorism risk to such facilities. Its design and implementation balance maintaining economic vitality with securing facilities and their surrounding communities. The regulations were designed, in collaboration with the private sector and other stakeholders, to take advantage of protective measures already in place and to allow facilities to employ a wide range of tailored measures to satisfy the regulations' Risk-Based Performance Standards (RBPS).

The Department collects the core regulatory data through the portions of the Chemical Security Assessment Tool (CSAT) covered under this collection. For more information about CFATS and CSAT, you may access www.dhs.gov/chemicalsecurity. The current information collection for these portions of CSAT will expire on March 31, 2013.

Response to Comments Submitted During the 60-Day Comment Period

The Department received two comments in response to the Federal Register notices published on December 17, 2012. One comment requested that the Department correct a citation in one of its user guides but did not comment on the Department's Paperwork Reduction Act burden estimates. The Department has made available on its Web site (www.dhs.gov/chemicalsecurity) updated materials that contain the correct citation.³

³ The commenter requested that the Department correct a citation in DHS Form 9007 (version 1.3). The Department has made available on its Web site version 2.8 of DHS Form 9007 which contains the correct citation.

The Department received a second responsive comment that was submitted in response to a separate but related notice, also published on December 17, 2012, that solicited comments on a related Information Collection Request. See 77 FR 74677. As a result, the Department has made several revisions to its burden estimate for ICR 1670-0007 in this 30-day notice in response to the comment. These revisions are discussed in the sections below. The commenter also made two other recommendations that touch on several of the instruments in this ICR. First, the commenter recommended that the Department include on its forms examples of potential responses and pre-populate documents with data previously submitted to the Department by each chemical facility. Second, the commenter recommended that the Department make the instruments (e.g., Top-Screen, Security Vulnerability Assessment [SVA]/Alternative Security Program [ASP], and Site Security Plan [SSP]/ASP) available online for both data entry and final submission. Further, the commenter recommended that the instruments should be easy to navigate and allow facilities to revise and submit the instruments online in various document formats (e.g., Word, PDF, Visio). The commenter suggested that if the Department implemented these recommendations it would decrease the administrative time spent by both respondents and the Department while improving the content of the information submitted to the Department to better satisfy program requirements. The Department will consider these suggestions, and if incorporated in the future will evaluate whether or not the burden estimates in this information collection should be revised.

The Department's Methodology in Estimating the Burden for the Top-Screen

Number of Respondents

This 30-day notice relies on the analysis and resulting burden estimate in the 60-day notice for this instrument which estimated the number of Top-Screen respondents as 2500 respondents.

Estimated Time per Respondent

By using the data collected between January 2009 and December 2011, the Department was able to measure the duration a user, on behalf of a facility, was logged into the Top-Screen application. The Department determined that 98 percent of users who submitted Top-Screens were logged into the Top-Screen application for no more than 2.25 hours. Based upon the Department's interactions with regulated chemical facilities, the Department assumed in the 60-day notice that for every hour a facility is logged into CSAT, it spends an average of two hours in preparation. This resulted in an estimated time per respondent to submit a Top-Screen of 6.75 hours.

The Department received a comment suggesting that the estimated time per response for this instrument should be 25 hours rather than the 6.75 hours estimated by the Department in the 60-day notice. As a result of the comment, and its ongoing interactions with regulated chemical facilities, the Department has revised its estimated time per response for this instrument. The Department will assume in this 30-day notice that a respondent spends an average of four hours in preparation outside of CSAT for every hour logged into CSAT. This results in an estimated time per respondent to submit a Top-Screen of 11.25 hours.

To account for the anticipated resubmission by facilities, the Department will continue to estimate that 50 percent of the respondents will submit two Top-Screens.

The Department will also continue to estimate that it will collect supporting documentation from approximately half of the respondents. Based upon the Department's day-to-day informal discussions with regulated chemical facilities, the Department believes that a reasonable burden for the gathering and provision of supporting documentation is 0.25 hours.

Annual Burden Hours

As a result of the revised estimated time per respondent the annual burden hours for the Top-Screen is [11.25 hours × 2,500 respondents × 1.5 responses per respondent], which equals 42,187.50 hours. The annual burden hours to submit supporting documentation is 312 hours [0.25 hours × 1,250 respondents × one response per respondent].

Therefore, the Department estimates that the total annual burden hours for the Top-Screen is 42,499.5 hours [42,187.5 hours + 312 hours]. The rounded estimate is 42,500 hours.

Total Burden Cost (Capital/Startup)

The Department provides access to CSAT free of charge, and the Department assumes that each respondent already has access to the internet for basic business needs. Therefore, for the purposes of this notice, the Department estimates that there are no capital/startup costs.

Total Recordkeeping Burden

A chemical facility that has submitted a Top-Screen may or may not be determined by the Department to present a high level of security risk. Only covered facilities that present a high level of security risk are required to keep records mandated by CFATS.

For chemical facilities that ultimately are determined not to present a high level of security risk, the Department estimates any CFATS recordkeeping burden to be de minimis.

For chemical facilities that are determined to present a high level of security risk, the Top-Screen recordkeeping burden is accounted for within the recordkeeping burden estimate for the “Site Security Plan (SSP) and Alternative Security Program (ASP) submitted in lieu of the Site Security Plan,” discussed later in this notice. The recordkeeping burden estimate for the “Site Security Plan (SSP) and Alternative Security Program (ASP) submitted in lieu of the Site Security Plan” accounts for all records high-risk chemical facilities are required to maintain under CFATS because the Department assumes that high-risk chemical facilities maintain their Top-Screen records and any other required records in the same manners, formats, and locations as they maintain their SSP/ASP records.

Total Annual Burden Cost (Operating/Maintaining)

The 2007 CFATS Regulatory Evaluation assumes that Site Security Officers are responsible for submitting Top-Screens. For the purpose of this notice, the Department maintains this assumption.

Therefore, to estimate the total annual burden, the Department multiplied the annual burden of 42,499.5 hours by the wage rate of Site Security Officers and adjusted for the actual and estimated Employment Cost Index (ECI) published by the Bureau of Labor Statistics (BLS). For the purpose of this notice, the Department adjusted the wage rate of Site Security Officers from $80.00 per hour to $86.00 per hour. Therefore, the total annual burden cost for the Top-Screen is $3,654,957 [42,499.5 total annual burden hours × $86 per hour]. The rounded estimate is $3,655,000.

The Department's Methodology in Estimating the Burden for the Security Vulnerability Assessment (SVA) & Alternative Security Program (ASP) Submitted in Lieu of the Security Vulnerability Assessment

Number of Respondents

This 30-day notice relies on the analysis and resulting burden estimate in the 60-day notice for this instrument, which estimated the number of SVA/ASP respondents as 740 respondents.

Estimated Time per Respondent

By using the data collected between January 2009 and December 2011, the Department was able to measure the duration a user, on behalf of a facility, was logged into the SVA/ASP application. The Department determined that 98 percent of users who submitted SVAs were logged into the SVA/ASP application for no more than 13 hours. Based upon the Department's interactions with regulated chemical facilities, the Department assumed in the 60-day notice that for every hour a facility is logged into CSAT, it spends an average of two hours in preparation. This resulted in an estimated time per respondent to submit an SVA/ASP of 39 hours.

The Department received a comment suggesting that the estimated time per response for this instrument should be 60 hours rather than the 39 hours estimated by the Department in the 60-day notice. As a result of the comment, and its ongoing interactions with regulated chemical facilities, the Department has revised its estimated time per response for this instrument. The Department will assume in this 30-day notice that a respondent spends an average of four hours in preparation outside of CSAT for every hour logged into CSAT. This results in an estimated time per respondent to submit a Top-Screen of 65 hours.

To account for the anticipated resubmission by facilities, the Department will continue to estimate that 50 percent of the respondents will submit an additional SVA/ASP.

The Department will also continue to estimate that it will collect supporting documentation from approximately half of the respondents. Based upon the Department's day-to-day informal discussions with regulated chemical facilities, the Department believes that a reasonable burden for gathering and provision of supporting documentation is 0.25 hours per facility.

Annual Burden Hours

The annual burden hours for the SVA/ASP is 72,150 hours [740 respondents × 65 hours × 1.5 response per respondent].

The annual burden estimate to obtain supporting documentation is 92.5 hours [0.25 hours × 370 respondents x one response per respondent].

Therefore, the Department estimates that the total annual burden in hours for the SVA/ASP is 72,242.5 hours [72,150 hours + 92.5 hours]. The rounded estimate is 72,200 hours.

Total Burden Cost (Capital/Startup)

The Department provides access to CSAT free of charge, and the Department assumes that each respondent already has access to the internet for basic business needs. Therefore, for the purposes of this notice, the Department estimates that there are no capital/startup costs.

Total Recordkeeping Burden

A chemical facility that has submitted an SVA/ASP may or may not be determined by the Department to present a high level of security risk. Only covered facilities that present a high level of security risk have a recordkeeping requirement.

For chemical facilities that ultimately are determined not to present a high level of security risk, the Department estimates any CFATS recordkeeping burden to be de minimis.

For chemical facilities that are determined to present a high level of security risk, the SVA recordkeeping burden is accounted for within the recordkeeping burden estimate for the “Site Security Plan (SSP) and Alternative Security Program (ASP) submitted in lieu of the Site Security Plan,” discussed later in this notice. The recordkeeping burden estimate for the “Site Security Plan (SSP) and Alternative Security Program (ASP) submitted in lieu of the Site Security Plan” accounts for all records high-risk chemical facilities are required to maintain under CFATS because the Department assumes that high-risk chemical facilities maintain their Top-Screen records and any other required records in the same manners, formats, and locations as they maintain their SSP/ASP records.

Total Annual Burden Cost (Operating/Maintaining)

The 2007 CFATS Regulatory Evaluation assumes that Site Security Officers will be responsible for submitting SVA/ASPs. For the purpose of this notice, the Department maintains this assumption.

The total annual burden cost for the SVA/ASP is $6,212,855 [72,242.5 total annual burden hours × $86 (average hourly wage rate for Site Security Officers)]. The rounded estimate is $6,212,900.

The Department's Methodology in Estimating the Burden for Site Security Plan (SSP) and Alternative Security Program (ASP) Submitted in Lieu of the Site Security Plan

Number of Respondents

This 30-day notice relies on the analysis and resulting burden estimate in the 60-day notice for this instrument which estimated the number of SSP/ASP respondents is 486 respondents.

Estimated Time per Respondent

By using the data collected between January 2009 and December 2011, the Department was able to measure the duration a user, on behalf of a facility, was logged into the SSP/ASP application. The Department determined that 98 percent of users who submitted SSPs were logged into the SSP/ASP application for no more than 45 hours. Based upon the Department's interactions with regulated chemical facilities, the Department assumed in the 60-day notice that for every hour a facility is logged into CSAT, it spends an average of 4.5 hours in preparation. This resulted in an estimated time per respondent to submit an SSP/ASP as 200 hours.

The Department received a comment suggesting that the estimated time per response for this instrument should be 225 hours rather than the 200 hours estimated by the Department in the 60-day notice. As a result of the comment, and its ongoing interactions with regulated chemical facilities, the Department has revised its estimated time per response for this instrument. The Department will assume in this 30-day notice that a respondent spends an average of four hours in preparation outside of CSAT for every hour logged into CSAT. This results in an estimated time per respondent to submit an SSP/ASP as 225 hours.

To account for anticipated resubmissions by facilities, the Department will continue to estimate that 50 percent of the respondents will submit an additional SSP/ASP.

The Department will also continue to estimate that it will collect supporting documentation from approximately half of the respondents. Based upon the Department's day-to-day informal discussions with regulated chemical facilities, the Department believes that a reasonable burden for the gathering and provision of supporting documentation is 0.25 hours per facility.

Annual Burden Hours

The annual burden hours for SSP/ASP submission is 164,025 hours [225 hours × 486 SSP/ASP respondents × 1.5 response per respondent].

The annual burden hours for obtaining supporting documentation is 60.75 hours [0.25 hours × (0.5 × 486 SSP/ASP respondents) × (one response per respondent)].

Therefore, the Department estimates that the total annual burden hours for SSP/ASP submission is 164,085.75 hours [164,025 hours + 60.75 hours]. The rounded estimate is 164,100 hours.

Total Burden Cost (Capital/Startup)

The Department provides access to CSAT free of charge, and the Department assumes each respondent already has access to the internet for basic business needs. Therefore, for the purposes of this notice, the Department estimates that there are no capital/startup costs.

Total Recordkeeping Burden

The Department received a comment that correctly identified a calculation error in the 60-day notice. Specifically, although the Department estimated the average annual cost for paper-based recordkeeping to be $336 (which is the correct estimate), in later calculations, the value of $366 was used.

The Department received a comment that suggested that the Department did not properly acknowledge in its estimates that the data collection process requires cooperation and input from a variety of individuals with wage rates greater than adjusted wage rate of clerical staff (i.e., $43) estimated in the ECI published by the BLS. The Department agrees with the commenter. In fact in the 60-day notice when estimating the total annual cost for the Top-Screen, SVA/ASP, and the SSP/ASP instruments the Department used the adjusted wage rate for Site Security Officers (i.e., $86) estimated in the ECI published by the BLS. In the 60-day notice, the wage rate for clerical staff was used solely to estimate recordkeeping costs. The Department believes this is reasonable and as a result did not revise its wage rates.

Therefore, the Department has revised its estimate of the annual recordkeeping burden to be $1,191,405.70 [($336 + $2,064) × (0.95 × 486 SSP/ASP respondents) + [($333 + $3,096) × (0.05 × 486 SSP/ASP respondents)]. The rounded estimate is $1,191,400.

Total Annual Burden Cost (Operating/Maintaining)

The Department received a comment that correctly identified a second calculation error in the 60-day notice.⁴ Specifically, the comment pointed out that although the Department estimated the estimated time per respondent, a different value was used in later calculations to estimate the total annual burden cost. The Department has corrected the error in this notice.

⁴ In the 60-day notice the Department estimated the total burden hours to submit an SSP/ASP to be 148,860.75 hours but then incorrectly used a different value when estimating the total annual cost. In this notice the total burden hours to submit an SSP/ASP was revised to be 164,100 hours. The revised total burden hours value of 164,100 is then subsequently used when estimating the total annual cost in this 30-day notice.

Therefore, the revised total annual burden cost for the SSP/ASP is $15,302,780.20 [164,085.75 hours multiplied by $86 (average hourly wage rate for Site Security Officers) + $1,191,405.70 (total annual recordkeeping burden)]. The rounded estimate is $15,302,800.

The Department's Methodology in Estimating the Burden for the Helpdesk

This 30-day notice relies on the analysis and resulting burden estimates in the 60-day notice for this instrument.

The Department's Methodology in Estimating the Burden for the User Registration

This 30-day notice relies on the analysis and resulting burden estimates in the 60-day notice for this instrument.

The Department's Methodology in Estimating the Burden for the Request for Information To Improve Program

This 30-day notice relies on the analysis and resulting burden estimates in the 60-day notice for this instrument.

Analysis

Agency: Department of Homeland Security, National Protection and Programs Directorate, Office of Infrastructure Protection, Infrastructure Security Compliance Division.

Title: Chemical Security Assessment Tool (CSAT).

OMB Number: 1670-0007.

Instrument: CSAT Top-Screen.

Frequency: “On occasion” and “Other”.

Affected Public: Business or other for-profit.

Number of Respondents: 2,500 respondents (estimate).

Estimated Time per Respondent: 11.25 hours.

Total Burden Hours: 42,500 hours.

Total Burden Cost (capital/startup): $0.

Total Recordkeeping Burden: $0.

Total Burden Cost (operating/maintaining): $3,655,000.

Instrument: Security Vulnerability Assessment and Alternative Security Program Submitted in Lieu of the Security Vulnerability Assessment.

Frequency: “On occasion” and “Other”.

Affected Public: Business or other for-profit.

Number of Respondents: 740 respondents (estimate).

Estimated Time per Respondent: 65 hours.

Total Burden Hours: 472,200 hours.

Total Burden Cost (capital/startup): $0.

Total Recordkeeping Burden: $0.

Total Burden Cost (operating/maintaining): $6,212,900.

Instrument: Site Security Plan and Alternative Security Program Submitted in Lieu of the Site Security Plan.

Frequency: “On occasion” and “Other”.

Affected Public: Business or other for-profit.

Number of Respondents: 486 respondents (estimate).

Estimated Time per Respondent: 225 hours.

Total Burden Hours: 164,100 hours.

Total Burden Cost (capital/startup): $0.

Total Recordkeeping Burden: $1,191,400.

Total Burden Cost (operating/maintaining): $15,302,800.

Instrument: Chemical Facility Anti-Terrorism Standards (CFATS) Helpdesk.

Frequency: “On occasion” and “Other”.

Affected Public: Business or other for-profit.

Number of Respondents: 15,000 respondents (estimate).

Estimated Time per Respondent: 0.17 hours.

Total Burden Hours: 2,250 annual burden hours.

Total Burden Cost (capital/startup): $0.

Total Recordkeeping Burden: $0.

Total Burden Cost (operating/maintaining): $219,300.

Instrument: Chemical Security Assessment Tool (CSAT) User Registration.

Frequency: “On occasion” and “Other”.

Affected Public: Business or other for-profit.

Number of Respondents: 625 respondents (estimate).

Estimated Time per Respondent: Two hours.

Total Burden Hours: 1,250 hours.

Total Burden Cost (capital/startup): $0.

Total Recordkeeping Burden: $0.

Total Burden Cost (operating/maintaining): $107,500.

Instrument: Request for Information to Improve Program.

Frequency: “On occasion” and “Other”.

Affected Public: Business or other for-profit.

Number of Respondents: 329 respondents (estimate).

Estimated Time per Respondent: One hour.

Total Burden Hours: 122 hours.

Total Burden Cost (capital/startup): $0.

Total Recordkeeping Burden: $0.

Total Burden Cost (operating/maintaining): $10,500.

Dated: March 11, 2013.
Michael Butcher,
Acting Chief Information Officer, National Protection and Programs Directorate, Department of Homeland Security.

[FR Doc. 2013-06095 Filed 3-15-13; 8:45 am]

BILLING CODE 9110-9P-P